DEPARTMENT OF THE INTERIOR

Bureau of Land Management

[LLOROR957000-L14200000-BJ000: HAG09-0087]

Filing of Plats of Survey: Oregon/Washington

AGENCY: U.S. Department of the Interior, Bureau of Land Management.

ACTION: Notice.

SUMMARY: The plats of survey of the following described lands were officially filed in the Bureau of Land Management Oregon/Washington State Office, Portland, Oregon, on August 19, 2008.

Willamette Meridian

Oregon

T. 32 S., R. 11 W., accepted June 13, 2008.

The plats of survey of the following described lands were officially filed in the Bureau of Land Management Oregon/Washington State Office, Portland, Oregon, on October 30, 2008.

Willamette Meridian

Washington

T. 23 N., R. 11 W., accepted September 22, 2008.

T. 21 N., R. 12 W., accepted September 22, 2008.

T. 34 N., R. 2 E., accepted September 30, 2008.

T. 27 N., R. 2 E., accepted September 30, 2008.

Oregon

T. 32 S., R. 6 W., accepted September 30, 2008.

T. 37 S., R. 5 W., accepted September 30, 2008.

T. 37 S., R. 4 W., accepted September 30, 2008.

The plats of survey of the following described lands were officially filed in the Bureau of Land Management Oregon/Washington State Office, Portland, Oregon, on November 7, 2008.

Willamette Meridian

Oregon

T. 25 S., R. 5 W., accepted October 16, 2008.

T. 26 S., R. 3 W., accepted October 16, 2008.

T. 28 S., R. 8 W., accepted October 16, 2008.

T. 30 S., R. 3 W., accepted October 16, 2008.

T. 29 S., R. 8 W., accepted October 24, 2008.

T. 29 S., R. 9 W., accepted October 24, 2008.

The plats of survey of the following described lands were officially filed in the Bureau of Land Management Oregon/Washington State Office, Portland, Oregon, on January 8, 2009.

Willamette Meridian

Washington

T. 33 N., R. 36 E., accepted November 24, 2008.

Oregon

T. 3 S., R. 7 W., accepted November 6, 2008.

T. 23 S., R. 4 W., accepted November 24, 2008.

T. 20 S., R. 6 W., accepted November 24, 2008.

T. 25 S., R. 7 W., accepted November 24, 2008.

T. 32 S., R. 10 W., accepted November 24, 2008.

T. 21 S., R. 4 W., accepted November 24, 2008.

Tps. 25 & 26 S.R. 4 W., accepted November 24, 2008.

ADDRESSES: A copy of the plats may be obtained from the Land Office at the Oregon/Washington State Office, Bureau of Land Management, 333 S.W. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, 333 SW. 1st Avenue, Portland, Oregon 97204.

Dated: February 13, 2009.
Cathie Jensen,
Chief, Lands Section.

[FR Doc. E9-4192 Filed 2-26-09; 8:45 am]

BILLING CODE 4310-33-P